DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These ICRs pertain to 49 CFR Parts 219, 229, 236, 241, and 244. Additionally, FRA hereby announces that other ICRs listed below have been re-approved by the Office of Management and Budget (OMB). These ICRs pertain to Parts 213, 214, 215, 216, 220, 223, and 239. The OMB approval numbers, titles, and expiration dates are included herein under supplementary information.

FOR FURTHER INFORMATION CONTACT: Mr. Robert Brogan, Office of Planning and Evaluation Division, RRS-21, Federal Railroad Administration, 1120 Vermont Ave., NW., Mail Stop 17, Washington, DC 20590 (telephone: (202) 493-6292), or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law No. 104-13, section 2, 109 Stat. 163 (1995) (codified as revised at 44 U.S.C. 3501-3520), and its implementing regulations, 5 CFR part 1320, require Federal agencies to display OMB control numbers and inform respondents of their legal significance once OMB approval is obtained. The following new FRA information collections were approved: (1) OMB No. 2130-0550, Rail-Equipment Accident/Incident Cost Study (Form FRA F 6180.105). The expiration date for this information collection is September 30, 2003. (2) OMB No. 2130-0551, Regional Inspection Point Listing Forms (Forms FRA F 6180.106(A)-(E)). The expiration date for this information collection is December 31, 2003. (3) OMB No. 2130-0552, Locomotive Cab Sanitation Standards (NPRM) (49 CFR part 229). The expiration date for this information collection is March 31, 2004. (4) OMB No. 2130-0553, Positive Train Control (NPRM) (49 CFR part 236). The expiration date for this information collection is September 30, 2004. (5) OMB No. 2130-0555, Foreign Railroads' Foreign-Based (FRFB) Employees Who Perform Train or Dispatching Service in the United States (NPRM) (49 CFR part 219). The expiration date for this information collection is January 31, 2005. (6) OMB No. 2130-0556, U.S. Locational Requirement For Dispatching U.S. Rail Operations (49 CFR part 241). The expiration date for this information collection is January 31, 2005. (7) OMB No. 2130-0557, Safety Integration Plans (49 CFR part 244). The expiration date for this information collection is March 31, 2005.

Additionally, the following information collections have been re-approved: (8) OMB No. 2130-0010, Track Safety Standards: Gage Restraint Measurement Systems (49 CFR part 213). The new expiration date for this information collection is March 31, 2004. (9) OMB No. 2130-0504, Special Notice For Repairs (49 CFR part 216). The new expiration date for this information collection is March 31, 2004. (10) OMB No. 2130-0511, Designation of Qualified Persons (49 CFR part 215). The new expiration date for this information collection is March 31, 2004. (11) OMB No. 2130-0524, Railroad Communications (Formerly Radio Standards and Procedures) (49 CFR part 220). The new expiration date for this information collection is November 30, 2004. (12) OMB No. 2130-0539, Railroad Worker Protection: Roadway Maintenance Machines (49 CFR part 214). The new expiration date for this information collection is March 31, 2004. (13) OMB No. 2130-0545, Passenger Train Emergency Preparedness (49 CFR parts 223 and 239). The new expiration date for this information collection is May 31, 2004.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC, on April 1, 2002.
Kathy A. Weiner,
Director, Office of Information Technology and Support Systems, Federal Railroad Administration.

[FR Doc. 02-8184 Filed 4-3-02; 8:45 am]

BILLING CODE 4910-06-P